GENERAL SERVICES ADMINISTRATION

[Notice-AD-2023-01; Docket No. 2023-0002; Sequence No. 39]

Notice of 2024 Presidential Transition Directory

AGENCY: Presidential Transition; General Services Administration (GSA).

ACTION: Notice of availability of the GSA 2024 Presidential Transition Directory.

SUMMARY: The Presidential Transition Directory: The website is designed to help candidates in the 2024 Presidential election get quick and easy access to key resources about the Federal Government structure and key policies related to Presidential Transition. The creation of the Presidential Transition Directory is mandated by the Presidential Transition Act of 1963, as amended.

DATES: Applicable: November 30, 2023.

FOR FURTHER INFORMATION CONTACT: Jonathan Foye at (202) 219-1493 or presidentialtransition2024@gsa.gov.

SUPPLEMENTARY INFORMATION: The Presidential Transition Directory (presidentialtransition.gsa.gov) website is designed to help candidates in the 2024 Presidential election get quick and easy access to key resources about the Federal Government structure and key policies related to Presidential Transition. The creation of the Presidential Transition Directory is mandated by the Presidential Transition Act of 1963, as amended (3 U.S.C. 102 Note). Connecting resources from the Office of Personnel Management, National Archives and Records Administration, U.S. Office of Government Ethics and others, the site will also help future political appointees better understand important aspects of their roles and some of the key policies and elements of Federal service.

The site will be continuously updated as new information becomes available to help ensure candidates and their staff have access to the best information possible.

Aimee Whiteman,
Federal Transition Coordinator, U.S. General Services Administration.

[FR Doc. 2023-26337 Filed 11-29-23; 8:45 am]

BILLING CODE 6820-AZ-P